DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration.

Title: Application for Insular Watch and Jewelry Program Benefits.

OMB Control Number: 0625-0040.

Form Number(s): ITA-334P, 334P-1, 334P-2, 334P-3.

Type of Request: Regular submission.

Burden Hours: 30.

Number of Respondents: 5.

Average Hours per Response: 3 hours.

Needs and Uses: Public Law 97-446, as amended by Public Law 103-465, Public Law 106-36 and Public Law 108-429 requires the Departments of Commerce and the Interior to administer the distribution of watch duty exemptions and watch and jewelry duty refunds to program producers in the U.S. insular possessions and the Northern Mariana Islands. The primary consideration in collecting information is to enforce the law, prevent abuse of the program, and permit a fair and equitable distribution of its benefits. The form used to collect the information is the principal program form to record the annual and mid-year operational data, on the basis of which program entitlements are calculated and distributed among the producers. A proposed modification to the form (ITA-334P) is planned, by dividing it into four forms, so that there is an annual and mid-year application for watch producers and an annual and mid-year application for jewelry producers. This would not involve any increase in the amount of information collected. This will allow program producers to receive their duty refund benefit on a biannual basis rather than solely on an annual basis.

Affected Public: Business and other for-profit organizations.

Frequency: Biannually.

Respondent's Obligation: Required to obtain or retain benefit.

OMB Desk Officer: Wendy Liberante, (202) 395-3647.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Wendy Liberante, OMB Desk Officer, Fax number (202) 395-7285 or via the Internet at Wendy_L._Liberante@omb.eop.gov.

Dated: November 17, 2008.
Gwellnar Banks,
Management Analyst, Office of the Chief Information Officer.

[FR Doc. E8-27589 Filed 11-19-08; 8:45 am]

BILLING CODE 3510-DS-P